NATIONAL AERONAUTICS AND SPACE ADMINISTRATION

[Notice (14-042)]

National Environmental Policy Act: Kennedy Space Center (KSC); Center-wide Operations

AGENCY: National Aeronautics and Space Administration.

ACTION: Notice of Intent to Prepare a Programmatic Environmental Impact Statement (PEIS) and Conduct PEIS Scoping.

SUMMARY: Pursuant to the National Environmental Policy Act (NEPA), as amended, (42 U.S.C. 4321 et seq.), the Council on Environmental Quality Regulations for Implementing the Procedural Provisions of NEPA; 40 Code of Federal Regulations (CFR) Parts 1500-1508; and NASA policy and procedures, 14 CFR part 1216, Subpart 1216.3, NASA intends to prepare a PEIS covering Center-wide operations at KSC. The United States (U.S.) Fish and Wildlife Service (USFWS), National Park Service (NPS), and the Federal Aviation Administration (FAA) will serve as Cooperating Agencies. They possess both regulatory authority and specialized expertise regarding the PEIS subject Proposed Action.

The purpose of this notice is to apprise interested agencies, organizations, tribal governments, and individuals of NASA's intent to prepare the PEIS and request input regarding environmental issues and concerns associated with the Proposed Action and alternative(s).

In cooperation with USFWS, NPS, and FAA, NASA will hold two public scoping meetings as part of the NEPA process associated with the development of the PEIS. The scoping meetings locations and dates are provided under SUPPLEMENTARY INFORMATION below.

DATES: Interested parties are invited to submit comments on environmental issues and concerns, preferably in writing, on or before July 7, 2014, to assure full consideration during the scoping process.

ADDRESSES: Comments submitted by mail should be addressed to Mr. Donald Dankert, Environmental Management Branch, NASA Kennedy Space Center, Mail Code: TA-A4C, Kennedy Space Center, FL 32899.

Comments may be submitted via email to ksc-dl-centerwide-eis@mail.nasa.gov.

FOR FURTHER INFORMATION CONTACT: Mr. Donald Dankert, Environmental Management Branch, NASA Kennedy Space Center, Mail Code: TA-A4C, Kennedy Space Center, FL 32899, Email: Donald.J.Dankert@nasa.gov, Telephone: (321) 861-1196.

Additional KSC information may be found on the internet at: http://www.nasa.gov/centers/kennedy/home/.

SUPPLEMENTARY INFORMATION:

Background

This PEIS is being prepared in conjunction with an updated Center Master Plan (CMP) to evaluate potential environmental impacts from proposed Center-wide operations and activities for a 20-year planning horizon from 2012-2032. The PEIS will consider a range of future scenarios from repurposing existing facilities and recapitalizing infrastructure, to reorganizing KSC management of its land resources with various types of commercial partnerships. The PEIS is intended to ensure NASA is in compliance with applicable environmental statutes as it sets program priorities for future operations and activities.

A CMP for Kennedy was developed in 2002 with a 50-year planning horizon. NASA Policy Directive 8810.2, Master Planning for Real Property, requires the CMP to be updated every five years. The 2008 CMP update was based on the now cancelled Constellation Program, while the current CMP update will guide KSC as it transitions towards a multiuser spaceport over the next 20 years.

KSC History

In the late 1950s the U.S. embarked on a new era of human space exploration. The first human space flight initiative was Project Mercury in 1958. The crewed spacecraft first launched from Cape Canaveral Air Force Station (CCAFS) in the early 1960s. In 1963 NASA's Launch Operations Center and portions of CCAFS used by NASA were renamed the John F. Kennedy Space Center. Project Mercury was followed by Project Gemini, which served to perfect maneuvers in Earth's orbit. The Apollo Program began in 1961, and aboard Apollo 11, American astronauts successfully landed on the moon and returned safely to Earth in July 1969. Eventually, seven Apollo missions landed 12 astronauts on the moon, the last of which was in December 1972.

In the mid-1970s, NASA initiated development of the Space Transportation System (commonly called the Space Shuttle) as the next crewed vehicle. Designed solely for missions to lower Earth orbit, the Space Shuttle was the first and, to date, the only winged spacecraft capable of vertically launching a crew into orbit and horizontally landing upon return. The Space Shuttle era lasted 30 years, from the Columbia launch on April 12, 1981, to the Atlantis landing on July 21, 2011. The Space Shuttle fleet supported 135 missions, recovered and repaired satellites, conducted cutting-edge scientific research under zero gravity conditions, and helped construct and service the International Space Station, the largest structure built in space.

KSC Location and Facilities

KSC is located on Merritt Island in Brevard and Volusia counties, Florida, north-northwest of Cape Canaveral on the Atlantic Ocean, midway between Miami and Jacksonville on Florida's Space Coast, approximately 50 miles east of Orlando. It is 34 miles (55 km) long and roughly six miles (10 km) wide, covering 219 square miles (570 km²).

The total KSC land and water area jurisdiction is approximately 140,000 acres. Only a very small part of the total acreage of KSC is developed or designated for NASA's operational and industrial use. Merritt Island consists of prime habitat for unique and endangered wildlife. In 1972 NASA entered into an agreement with the USFWS to establish a wildlife preserve within KSC boundaries known as the Merritt Island National Wildlife Refuge. Public Law 93-626 created the Canaveral National Seashore (CNS), and thereby, an agreement with the Department of the Interior was also formed in 1975 due to the location of CNS within KSC boundaries.

Since December 1968, all launch operations have been conducted from Launch Complex 39 (LC-39) Pads A and B. Both pads are close to the ocean and three miles (five km) east of the Vehicle Assembly Building. From 1969-1972, LC-39 was the departure point for all six Apollo manned moon-landing missions using the Saturn V rocket. LC-39 was used from 1981-2011 for all Space Shuttle launches. The Shuttle Landing Facility, located just to the north, was used for most Shuttle landings. At 15,000 feet (4,572 meters or 2.8 miles) it is among the longest runways in the world. The KSC Industrial Area, where many of the Center's support facilities are located, is five miles (eight kilometers) south of LC-39. It includes the Headquarters Building, the Operations and Checkout Building, Space Station Processing Facility and the Central Instrumentation Facility.

KSC is a major central Florida tourist destination and approximately a one-hour drive from the Orlando area. The Visitor Complex offers public tours of the Center and CCAFS. Because much of the installation is a restricted area and only nine percent of the land is developed, the site also serves as an important wildlife sanctuary. Mosquito Lagoon, Indian River, Merritt Island National Wildlife Refuge, and CNS are other natural area features.

Proposed Action and No Action Alternatives

Under the Proposed Action in the years ahead, KSC will implement the aforementioned CMP update and transition from a Government, program-focused, single-user launch and landing complex to a more central capability, cost effective, and multiuser spaceport. KSC's new mission will be to furnish both Government and commercial space providers with the necessary facilities, experienced workforce, and knowledge to support existing mission sets and new space programs.

The KSC master planning process is identified in NASA's institutional requirements to report to Congress, pursuant to the NASA Authorization Act of 2010, Section 1102. The resulting CMP update will result in changes to the infrastructure, land use, space transportation providers and users' customer base, and business model over a 20-year planning horizon from 2012-2032. The CMP update will include a number of component plans, including future land use, facility development, area development, transportation, utilities systems, and safety and security control. Implementing the future land use plan will promote the right-sizing of NASA KSC operations and attract non-NASA investment by providing more operational autonomy. Consolidating NASA operations into a smaller geographic footprint is a major component of the future land use plan. Applying the Central Campus concept, for example, allows NASA to recapitalize functions and capabilities into higher-efficiency facilities and combine nonhazardous and spread out functions into a more efficient, smaller, secured geographic footprint. Likewise, directing future NASA and non-NASA development into functional areas with defined, allowable operations will streamline safety and security considerations while promoting maximum utilization of KSC's horizontal infrastructure capacities. In addition, the future land use plan supports expansion of the quint-modal capabilities to provide multiuser spaceport users increased support.

The future land use plan identifies 18 land use categories, their existing acreages, and their proposed future acreages. Changes in the size and location between existing and proposed land uses will constitute the basis for differential potential environmental impacts between the Proposed Action and the No Action alternatives.

Under the No Action Alternative, KSC would not transition towards a multiuser spaceport with fully integrated NASA programs and non-NASA users. Each NASA program would continue to operate to a significant degree as an independent entity, funded separately and managing activities and buildings in support of its own program. A limited non-NASA presence would continue at KSC.

Scoping Meeting(s)

NASA and its Cooperating Agencies plan to hold two public scoping meetings to provide KSC PEIS information and solicit public comments regarding environmental concerns and alternatives for PEIS consideration. The public scoping meetings are scheduled as follows:

1. Eastern Florida State College Titusville Campus, John Henry Jones Gymnatorium, June 4, 2014, 5-8 p.m.

2. New Smyrna Beach High School Gymnasium, 1015 Tenth Street, New Smyrna Beach, June 5, 2014, 5-8 p.m.

The meeting format will include an open-house workshop from 5:00 to 6:00 p.m. KSC staff will provide an overview of the environmental process from 6:00 to 6:15 p.m., followed by a public comment period from 6:15 to 8:00 p.m. The open-house workshop will consist of poster stations describing the proposed project and the NEPA process. NASA KSC and Cooperating Agencies staff will be present during the open-house workshop portion to answer general questions about the proposed project and the NEPA process.

As the PEIS is prepared, the public will be provided several opportunities for involvement, the first of which is during scoping. If an interested party does not have input at this time, other avenues, including reviews of the Draft and Final PEIS, will be offered in the future. The availability of these documents will be published in the Federal Register and through local news media to ensure all members of the public have the opportunity to actively participate in the NEPA process.

Written public input on alternatives and environmental issues and concerns associated with this proposed action are hereby requested.

Calvin F. Williams,
Assistant Administrator, Office of Strategic Infrastructure.

[FR Doc. 2014-11565 Filed 5-19-14; 8:45 am]

BILLING CODE 7510-13-P